DEPARTMENT OF ENERGY

Federal Energy Regulatory Commission

Combined Notice of Filings #1

November 15, 2010.

Take notice that the Commission received the following electric corporate filings:

Docket Numbers: EC11-19-000.

Applicants: Exeter Energy Limited Partnership, ReEnergy Sterling LLC.

Description: Exeter Energy Limited Partnership submits Authorization under Section 203 of the Federal Power Act and Request for Waivers.

Filed Date: 11/12/2010.

Accession Number: 20101112-0205.

Comment Date: 5 p.m. Eastern Time on Friday, December 3, 2010.

Docket Numbers: EC11-20-000.

Applicants: EIF Renewable Energy Holdings LLC, Innovative Energy Systems, LLC, Seneca Energy, II LLC.

Description: Application of Seneca Energy II, LLC, et al. requesting Commission's approval to transfer control over their jurisdictional facilities to EIF Renewable Energy Holdings LLC pursuant to Section 203 of the FPA.

Filed Date: 11/12/2010.

Accession Number: 20101112-5417.

Comment Date: 5 p.m. Eastern Time on Friday, December 3, 2010.

Take notice that the Commission received the following exempt wholesale generator filings:

Docket Numbers: EG11-11-000.

Applicants: Community Wind North, LLC.

Description: Community Wind North, LLC Notice of Self-Certification of Exempt Wholesale Generator Status.

Filed Date: 11/12/2010.

Accession Number: 20101112-5302.

Comment Date: 5 p.m. Eastern Time on Friday, December 3, 2010.

Docket Numbers: EG11-12-000.

Applicants: Community Wind North 1 LLC.

Description: Community Wind North, LLC 1 Notice of Self-Certification of Exempt Wholesale Generator Status.

Filed Date: 11/12/2010.

Accession Number: 20101112-5320.

Comment Date: 5 p.m. Eastern Time on Friday, December 3, 2010.

Docket Numbers: EG11-13-000.

Applicants: Community Wind North 2 LLC.

Description: Community Wind North 2 LLC Notice of Self-Certification of Exempt Wholesale Generator Status.

Filed Date: 11/12/2010.

Accession Number: 20101112-5322.

Comment Date: 5 p.m. Eastern Time on Friday, December 3, 2010.

Docket Numbers: EG11-14-000.

Applicants: Community Wind North 3 LLC.

Description: Community Wind North 3 LLC Notice of Self-Certification of Exempt Wholesale Generator Status.

Filed Date: 11/12/2010.

Accession Number: 20101112-5324.

Comment Date: 5 p.m. Eastern Time on Friday, December 3, 2010.

Docket Numbers: EG11-15-000.

Applicants: Community Wind North 5 LLC.

Description: Community Wind North 5 LLC Notice of Self-Certification of Exempt Wholesale Generator Status.

Filed Date: 11/12/2010.

Accession Number: 20101112-5326.

Comment Date: 5 p.m. Eastern Time on Friday, December 3, 2010.

Docket Numbers: EG11-16-000.

Applicants: Community Wind North 6 LLC.

Description: Community Wind North 6 LLC Notice of Self-Certification of Exempt Wholesale Generator Status.

Filed Date: 11/12/2010.

Accession Number: 20101112-5336.

Comment Date: 5 p.m. Eastern Time on Friday, December 3, 2010.

Docket Numbers: EG11-17-000.

Applicants: Community Wind North 7 LLC.

Description: Community Wind North 7 LLC Notice of Self-Certification of Exempt Wholesale Generator Status.

Filed Date: 11/12/2010.

Accession Number: 20101112-5346.

Comment Date: 5 p.m. Eastern Time on Friday, December 3, 2010.

Docket Numbers: EG11-18-000.

Applicants: Community Wind North 8 LLC.

Description: Community Wind North 8 LLC Notice of Self-Certification of Exempt Wholesale Generator Status.

Filed Date: 11/12/2010.

Accession Number: 20101112-5351.

Comment Date: 5 p.m. Eastern Time on Friday, December 3, 2010.

Docket Numbers: EG11-19-000.

Applicants: Community Wind North 9 LLC.

Description: Community Wind North 9 LLC Notice of Self-Certification of Exempt Wholesale Generator Status.

Filed Date: 11/12/2010.

Accession Number: 20101112-5352.

Comment Date: 5 p.m. Eastern Time on Friday, December 3, 2010.

Docket Numbers: EG11-20-000.

Applicants: Community Wind North 10 LLC.

Description: Community Wind North 10 LLC Notice of Self-Certification of Exempt Wholesale Generator Status.

Filed Date: 11/12/2010.

Accession Number: 20101112-5355.

Comment Date: 5 p.m. Eastern Time on Friday, December 3, 2010.

Docket Numbers: EG11-21-000.

Applicants: Community Wind North 11 LLC.

Description: Community Wind North 11 LLC Notice of Self-Certification of Exempt Wholesale Generator Status.

Filed Date: 11/12/2010.

Accession Number: 20101112-5358.

Comment Date: 5 p.m. Eastern Time on Friday, December 3, 2010.

Docket Numbers: EG11-22-000.

Applicants: Community Wind North 13 LLC.

Description: Community Wind North 13 LLC Notice of Self-Certification of Exempt Wholesale Generator Status.

Filed Date: 11/12/2010.

Accession Number: 20101112-5364.

Comment Date: 5 p.m. Eastern Time on Friday, December 3, 2010.

Docket Numbers: EG11-23-000.

Applicants: Community Wind North 15 LLC.

Description: Community Wind North 15 LLC Notice of Self-Certification of Exempt Wholesale Generator Status.

Filed Date: 11/12/2010.

Accession Number: 20101112-5372.

Comment Date: 5 p.m. Eastern Time on Friday, December 3, 2010.

Docket Numbers: EG11-24-000.

Applicants: Duke Energy Fayette II, LLC.

Description: Notice of Self-Certification as an EWG of Duke Energy Fayette II, LLC.

Filed Date: 11/15/2010.

Accession Number: 20101115-5079.

Comment Date: 5 p.m. Eastern Time on Monday, December 6, 2010.

Docket Numbers: EG11-25-000.

Applicants: Duke Energy Hanging Rock II, LLC.

Description: Notice of Self-Certification as an EWG of Duke Energy Hanging Rock II, LLC.

Filed Date: 11/15/2010.

Accession Number: 20101115-5080.

Comment Date: 5 p.m. Eastern Time on Monday, December 6, 2010.

Docket Numbers: EG11-26-000.

Applicants: Duke Energy Lee II, LLC.

Description: Notice of Self-Certification as an EWG of Duke Energy Lee II, LLC.

Filed Date: 11/15/2010.

Accession Number: 20101115-5081.

Comment Date: 5 p.m. Eastern Time on Monday, December 6, 2010.

Docket Numbers: EG11-27-000.

Applicants: Duke Energy Vermillion II, LLC.

Description: Notice of Self-Certification as an EWG of Duke Energy Vermillion II, LLC.

Filed Date: 11/15/2010.

Accession Number: 20101115-5082.

Comment Date: 5 p.m. Eastern Time on Monday, December 6, 2010.

Docket Numbers: EG11-28-000.

Applicants: Duke Energy Washington II, LLC.

Description: Notice of Self-Certification as an EWG of Duke Energy Washington II, LLC.

Filed Date: 11/15/2010.

Accession Number: 20101115-5083.

Comment Date: 5 p.m. Eastern Time on Monday, December 6, 2010.

Take notice that the Commission received the following electric rate filings:

Docket Numbers: ER05-721-016; ER06-1334-013; ER06-230-013; ER07-277-012; ER07-810-011; ER08-1172-010; ER08-237-011; ER09-1339-006; ER09-1340-006; ER09-1341-006; ER09-1342-006; ER09-429-007; ER09-430-007; ER09-946-006; ER10-956-002; ER99-2341-019.

Applicants: Forward Energy LLC, Sheldon Energy LLC, Invenergy Cannon Falls LLC, Spindle Hill Energy LLC, Spring Canyon Energy LLC, Grand Ridge Energy LLC, Willow Creek Energy LLC, Hardee Power Partners Limited, Judith Gap Energy LLC, Invenergy TN LLC, Wolverine Creek Energy LLC, Grand Ridge Energy II LLC, Grand Ridge Energy III LLC, Grand Ridge Energy IV LLC, Grand Ridge Energy V LLC, Vantage Wind Energy LLC, Beech Ridge Energy LLC, Grays Harbor Energy LLC.

Description: Notification of Change in Facts Under Market-Based Rate Authority of Spring Canyon Energy LLC, et al.

Filed Date: 11/12/2010.

Accession Number: 20101112-5206.

Comment Date: 5 p.m. Eastern Time on Friday, December 3, 2010.

Docket Numbers: ER07-1106-009.

Applicants: ArcLight Energy Marketing, LLC, Oak Creek Wind Power, LLC, Coso Geothermal Power Holdings, LLC.

Description: Supplemental to Updated Market Power Analysis for the Southwest Region of Coso Geothermal Power Holdings, LLC, ER10-566, et al.

Filed Date: 11/12/2010.

Accession Number: 20101112-5264.

Comment Date: 5 p.m. Eastern Time on Friday, December 3, 2010.

Docket Numbers: ER08-1255-003

Applicants: Oak Creek Wind Power, LLC.

Description: Supplemental to Updated Market Power Analysis for the Southwest Region of Coso Geothermal Power Holdings, LLC, ER10-566, et al.

Filed Date: 11/12/2010.

Accession Number: 20101112-5264.

Comment Date: 5 p.m. Eastern Time on Friday, December 3, 2010.

Docket Numbers: ER08-1255-004.

Applicants: ArcLight Energy Marketing, LLC, Oak Creek Wind Power, LLC, Coso Geothermal Power Holdings, LLC.

Description: Supplemental to Updated Market Power Analysis for the Southwest Region of Coso Geothermal Power Holdings, LLC, ER10-566, et al.

Filed Date: 11/12/2010.

Accession Number: 20101112-5264.

Comment Date: 5 p.m. Eastern Time on Friday, December 3, 2010.

Docket Numbers: ER10-2061-002.

Applicants: Tampa Electric Company.

Description: Tampa Electric Company submits tariff filing per 35: Compliance Wholesale Requirements Rate Case to be effective 3/1/2011.

Filed Date: 11/15/2010.

Accession Number: 20101115-5109.

Comment Date: 5 p.m. Eastern Time on Monday, December 6, 2010.

Docket Numbers: ER10-2299-001.

Applicants: Entergy Texas, Inc., Entergy Arkansas, Inc., Entergy Gulf States Louisiana, L.L.C., Entergy Louisiana, LLC, Entergy Mississippi, Inc., Entergy New Orleans, Inc.

Description: Entergy Texas, Inc. submits tariff filing per 35: Plum Point DTOA Compliance Filing to be effective 8/20/2010.

Filed Date: 11/12/2010.

Accession Number: 20101112-5369.

Comment Date: 5 p.m. Eastern Time on Friday, December 3, 2010.

Docket Numbers: ER10-2656-001.

Applicants: Tucson Electric Power Company.

Description: Tucson Electric Power Company submits tariff filing per 35: OATT Compliance Filing—Correction of Table of Contents Titles to be effective 9/16/2010.

Filed Date: 11/12/2010.

Accession Number: 20101112-5274.

Comment Date: 5 p.m. Eastern Time on Friday, December 3, 2010.

Docket Numbers: ER10-2665-001.

Applicants: UNS Electric, Inc.

Description: UNS Electric, Inc. submits tariff filing per 35: Amendment to Baseline OATT Filing to be effective 9/16/2010.

Filed Date: 11/12/2010.

Accession Number: 20101112-5287.

Comment Date: 5 p.m. Eastern Time on Friday, December 3, 2010.

Docket Numbers: ER10-2942-001.

Applicants: Elk River Windfarm, LLC.

Description: Elk River Windfarm, LLC submits tariff filing per 35: Amendment to Baseline Tariff Filing to be effective 9/24/2010.

Filed Date: 11/15/2010.

Accession Number: 20101115-5073.

Comment Date: 5 p.m. Eastern Time on Monday, December 6, 2010.

Docket Numbers: ER10-2944-001.

Applicants: Elm Creek Wind, LLC.

Description: Elm Creek Wind, LLC submits tariff filing per 35: Amendment to Baseline Tariff Filing to be effective 9/24/2010.

Filed Date: 11/15/2010.

Accession Number: 20101115-5070.

Comment Date: 5 p.m. Eastern Time on Monday, December 6, 2010.

Docket Numbers: ER10-2945-001.

Applicants: Elm Creek Wind II LLC.

Description: Elm Creek Wind II LLC submits tariff filing per 35: Amendment to Baseline Tariff Filing to be effective 9/24/2010.

Filed Date: 11/15/2010.

Accession Number: 20101115-5072.

Comment Date: 5 p.m. Eastern Time on Monday, December 6, 2010.

Docket Numbers: ER10-2949-001.

Applicants: Farmers City Wind, LLC.

Description: Farmers City Wind, LLC submits tariff filing per 35: Amendment to Baseline Tariff Filing to be effective 9/24/2010.

Filed Date: 11/15/2010.

Accession Number: 20101115-5026.

Comment Date: 5 p.m. Eastern Time on Monday, December 6, 2010.

Docket Numbers: ER10-2956-001.

Applicants: Flying Cloud Power Partners, LLC.

Description: Flying Cloud Power Partners, LLC submits tariff filing per 35: Amendment to Baseline Tariff Filing to be effective 9/24/2010.

Filed Date: 11/15/2010.

Accession Number: 20101115-5078.

Comment Date: 5 p.m. Eastern Time on Monday, December 6, 2010.

Docket Numbers: ER10-2957-001.

Applicants: Hay Canyon Wind LLC.

Description: Hay Canyon Wind LLC submits tariff filing per 35: Amendment to Baseline Tariff Filing to be effective 9/24/2010.

Filed Date: 11/15/2010.

Accession Number: 20101115-5025.

Comment Date: 5 p.m. Eastern Time on Monday, December 6, 2010.

Docket Numbers: ER10-3215-002.

Applicants: Eagle Power Authority, Inc.

Description: Eagle Power Authority, Inc. submits FERC Tariff 1, to be effective 11/12/2010.

Filed Date: 11/15/2010.

Accession Number: 20101115-5000.

Comment Date: 5 p.m. Eastern Time on Monday, December 6, 2010.

Docket Numbers: ER10-3272-001.

Applicants: Lower Mount Bethel Energy, LLC.

Description: Lower Mount Bethel Energy, LLC submits tariff filing per 35: Lower Mount Bethel Energy, LLC Resubmission of Reactive Power Tariff Baseline to be effective 9/30/2010.

Filed Date: 11/12/2010.

Accession Number: 20101112-5230.

Comment Date: 5 p.m. Eastern Time on Friday, December 3, 2010.

Docket Numbers: ER10-3273-001.

Applicants: PPL EnergyPlus, LLC.

Description: PPL EnergyPlus, LLC submits tariff filing per 35: PPL EnergyPlus, LLC Resubmission of Reactive Power Tariff Baseline to be effective 9/30/2010.

Filed Date: 11/12/2010.

Accession Number: 20101112-5231.

Comment Date: 5 p.m. Eastern Time on Friday, December 3, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-29323 Filed 11-19-10; 8:45 am]

BILLING CODE 6717-01-P